DEPARTMENT OF COMMERCE

National Oceanic and Atmospheric Administration

[I.D. 050504A]

Fisheries of the Caribbean, Gulf of Mexico, and South Atlantic; Southeastern Data, Assessment, and Review (SEDAR) Steering Committee Meeting

AGENCY: National Marine Fisheries Service (NMFS), National Oceanic and Atmospheric Administration (NOAA), Commerce.

ACTION: Notice of a SEDAR Steering Committee meeting.

SUMMARY: The SEDAR Steering Committee will meet via conference call on May 21, 2004, to discuss the SEDAR process and the king mackerel review workshop. Listening posts will be established at three locations to accommodate interested members of the public.

DATES: The SEDAR Steering Committee conference call will be held from 9 a.m. to 11 a.m. on Friday, May 21, 2004.

ADDRESSES: Listening posts to accommodate interested members of the public will be established at the following locations:

1. South Atlantic Fishery Management Council, One Southpark Circle, Suite 306, Charleston, SC 29407;

2. NMFS, Southeast Regional Office, 9721 Executive Center Drive N., St. Petersburg, FL 33702; and

3. NMFS, Southeast Fisheries Science Center, 75 Virginia Beach Drive, Miami, FL 33149.

FOR FURTHER INFORMATION CONTACT: John Carmichael, SEDAR Coordinator, SEDAR/SAFMC, One Southpark Circle, Suite 306, Charleston, SC 29407; phone: 843-571-4366 or toll free 866-SAFMC-10; fax: 843-769-4520.

SUPPLEMENTARY INFORMATION: The South Atlantic, Gulf of Mexico, and Caribbean Fishery Management Councils, in conjunction with NMFS, the Atlantic States Marine Fisheries Commission, and the Gulf States Marine Fisheries Commission, implemented the SEDAR process - a multi-step method for determining the status of fish stocks. The SEDAR Steering Committee provides oversight of the SEDAR process and establishes assessment priorities.

The Steering Committee meeting will convene via conference call from 9 a.m. to 11 a.m. on May 21, 2004, to discuss and review the SEDAR process and the king mackerel review workshop. Listening posts will be established to accommodate interested members of the public (see ADDRESSES).

Special Accommodations

The listening post locations for this conference call are accessible to people with disabilities. Requests for sign language interpretation or other auxiliary aids should be directed to Joyce Mochrie at NMFS Southeast Regional Office (see ADDRESSES) by May 12, 2004.

Dated: May 5, 2004.
Alan D. Risenhoover,
Acting Director, Office of Sustainable Fisheries, National Marine Fisheries Service.

[FR Doc. E4-1081 Filed 5-10-04; 8:45 am]

BILLING CODE 3510-22-S